DEPARTMENT OF ENERGY

Federal Energy Regulatory Commission

[Docket No. CP06-398-000]

MoBay Storage Hub, Inc.; Notice of Intent To Prepare an Environmental Assessment for the Proposed MoBay Storage Project and Request for Comments on Environmental Issues

August 1, 2006.

The staff of the Federal Energy Regulatory Commission (FERC or Commission) will prepare an environmental assessment (EA) that will discuss the environmental impacts of the MoBay Storage Project involving construction and operation of facilities by MoBay Storage Hub, Inc. (MoBay) in offshore Alabama waters and in Mobile County, Alabama.¹ These facilities would consist of injection/withdrawal storage wells, observation wells, various diameter offshore and onshore pipeline, two 8,500 horsepower (hp) offshore compressor units, one 37,880 hp onshore compressor station, and meter stations. This EA will be used by the Commission in its decisionmaking process to determine whether the project is in the public convenience and necessity.

¹ MoBay's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility on My Land? What Do I Need To Know?” was attached to the project notice Caledonia provided to landowners. This fact sheet addresses a number of typically asked questions, including the use of eminent domain and how to participate in the Commission's proceedings. It is available for viewing on the FERC Internet Web site (http://www.ferc.gov).

Summary of the Proposed Project

MoBay proposes to build and operate a high-deliverability, multi-cycle natural gas storage facility and appurtenant facilities in Mobile Bay in offshore Alabama waters and in Mobile County, Alabama, to provide a working gas capacity of approximately 50 billion cubic feet (BCF), and maximum daily injection and withdrawal capabilities of up to one BCF per day. The proposed storage facility would be converted from three offshore substantially-depleted natural gas reservoirs: the North Dauphin Island (NDI), Northwest Dauphin Island (NWDI), and Northeast Petit Bois (NEPB) fields.

MoBay seeks authority to construct and operate:

• 30 offshore injection and withdrawal wells supported by 10 caissons;

• 14 observation wells within the three reservoirs;

• two offshore 8,500 hp compressor units on the NDI platform;

• 7.4 miles of 8- to 16-inch-diameter offshore pipeline connecting the 30 wells to the NDI and NWDI platforms;

• 12.1 miles of 36-inch-diameter offshore pipeline from the NDI platform to the Bayou Coden Valve Station at landfall just east of the mouth of Bayou Coden at milepost 0.0;

• the 37,880 hp MoBay Compressor Station near the Gulfstream Compressor Station 410 on Rock Road in Mobile County, Alabama;

• the Gulfstream Interconnect, the Transco Interconnect, and the Gulf South Pipe Line Interconnect Meter Stations; and

• the Coden Valve at milepost 0.04.

MoBay requests certification by November 1, 2006, to enable commencement of construction in late 2006 for a targeted in-service date of October 1, 2007.

The location of the project facilities is shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require disturbance of 14 acres of land offshore and 93 acres of land onshore (18 acres in extra workspaces and pipe yard) for a total of 107 acres. Following construction, 14 acres of offshore land and 33 acres of onshore land would be restored to previous use, leaving 60 acres of onshore land under permanent easement for operation. MoBay would use a 100-foot-wide construction ROW and a 75-foot-wide operational ROW for the onshore pipelines. MoBay would open a 5-foot-wide seafloor trench for offshore pipeline construction.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils;

• Water resources;

• Wetlands and fisheries;

• Vegetation and wildlife;

• Threatened and endangered species;

• Land use;

• Cultural resources;

• Air quality and noise;

• Reliability and safety, and

• Cumulative impacts.

We will also evaluate reasonable alternatives to the proposed project or portions of the project, and make recommendations on how to lessen or avoid impacts on the various resource areas.

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by MoBay. This preliminary list of issues may be changed based on your comments and our analysis.

• Open-cut crossing of three perennial waterways, including Bayou Jonas and Bayou Como;

• Disturbance of cypress trees associated with Jonas Bayou;

• Sedimentation in the Mississippi Sound from underwater pipeline and well installation;

• Disturbance of 102 acres of wetlands, including conversion of 35 acres of palustrine forested wetlands to emergent wetlands;

• Open-cut pipeline installation across 15 miles of the Intercoastal Waterway;

• Visual impacts of 10 injection/withdrawal well caissons and 14 observation well caissons;

• Crossing within 0.03 mile of Ralston Park at milepost 0.70;

• Crossing of the Dauphin Island-Bayou LaBatre Loop of the Alabama Coastal Birding Trail at milepost 1.12;

• Noise impacts to three noise sensitive areas (i.e. residences) located from 1,800 to 4,300 feet from the proposed MoBay Compressor Station.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas 2.

• Reference Docket No. CP06-398-000.

• Mail your comments so that they will be received in Washington, DC on or before August 31, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created online.

We may mail the EA for comment. If you are interested in receiving it, please return the Information Request (Appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 3, to express their interest in becoming cooperating agencies for the preparation of the EA.

Additional Information

Additional information about the project is available from the Commission's Office of External Affairs, at 1-866-208-FERC (3372) or on the FERC Internet website (http://www.ferc.gov) using the eLibrary link. Click on the eLibrary link, click on “General Search” and enter the docket number excluding the last three digits (i.e., enter PF06-398) in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-13760 Filed 8-17-06; 8:45 am]

BILLING CODE 6717-01-P